DEPARTMENT OF DEFENSE

Department of the Navy

Notice of Availability of Record of Decision for the Hawaii-California Training and Testing Final Environmental Impact Statement/Overseas Environmental Impact Statement (ID# EISX-007-17-USN-1724283453)

AGENCY: Department of the Navy (DoN), Department of Defense.

ACTION: Notice.

SUMMARY: In accordance with the National Environmental Policy Act and Executive Order 12114, the DoN announces its decision to conduct training and testing activities within the Hawaii-California Training and Testing (HCTT) Study Area as described in Alternative 1 of the HCTT Final Environmental Impact Statement (EIS)/Overseas Environmental Impact Statement (OEIS).

SUPPLEMENTARY INFORMATION: Alternative 1 is the DoN's preferred alternative and is representative of an annual level of training and testing activities that accounts for fluctuations of training cycles, deployment schedules, use of synthetic training opportunities, and testing programs.

The complete text of the Record of Decision (ROD) and the HCTT Final EIS/OEIS is available on the project website at www.nepa.navy.mil/hctteis along with supporting documents. Single copies of the ROD are available upon request by contacting: Naval Facilities Engineering Systems Command Pacific, Attention: Code EV21 (HCTT EIS Project Manager), 258 Makalapa Drive, Suite 100, Pearl Harbor, HI 96860-3134.

Dated: December 2, 2025.
A.R. DeMaio,
Lieutenant Commander, Judge Advocate General's Corps, U.S. Navy, Federal Register Liaison Officer.

[FR Doc. 2025-21941 Filed 12-3-25; 8:45 am]

BILLING CODE 3810-FF-P